NUCLEAR REGULATORY COMMISSION

[Docket No. 50-285; NRC-2025-1831]

Omaha Public Power District; Fort Calhoun Station, Unit 1; Environmental Assessment and Finding of No Significant Impact

AGENCY: Nuclear Regulatory Commission.

ACTION: Notice; issuance.

SUMMARY: The U.S. Nuclear Regulatory Commission (NRC) is issuing a finding of no significant impact (FONSI) and accompanying environmental assessment (EA) regarding the NRC's consideration of a license amendment request by Omaha Public Power District (OPPD) to approve the License Termination Plan (LTP), Revision 2 for the Fort Calhoun Station, Unit 1 (FCS), located in Washington County, Nebraska. If approved, the amendment would edit the dose calculations and final site survey (FSS) requirements for the Auxiliary Building basement and Containment Building for concrete structures deeper than 3 meters (m) (9.8 feet [ft]). OPPD would use the LTP to meet the requirements for terminating the license and releasing the site for unrestricted use. Based on the EA, the NRC staff has concluded that there will be no significant impacts to environmental resources from the requested license amendment, and therefore, a FONSI is appropriate.

DATES: The EA and FONSI referenced in this document is available on December 12, 2025.

ADDRESSES: Please refer to Docket ID NRC-2025-1831 when contacting the NRC about the availability of information regarding this document. You may obtain publicly available information related to this document using any of the following methods.

• Federal Rulemaking website: Go to https://www.regulations.gov and search for Docket ID NRC-2025-1831. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section of this document.

• NRC's PDR: The PDR, where you may examine and order copies of publicly available documents, is open by appointment. To make an appointment to visit the PDR, please send an email to PDR.Resource@nrc.gov or call 1-800-397-4209 or 301-415- 4737, between 8 a.m. and 4 p.m. eastern time (ET), Monday through Friday, except Federal holidays.

FOR FURTHER INFORMATION CONTACT: Isaac Johnston, Office of Nuclear Material Safety and Safeguards, U.S. Nuclear Regulatory Commission, Washington, DC 20555-0001; telephone: 301-415-5649; email: Isaac.Johnston@nrc.gov.

SUPPLEMENTARY INFORMATION:

I. Introduction

The NRC is considering issuance of a license amendment request to approve the LTP, Revision 2 for the FCS, located in Washington County, Nebraska, as part of OPPD's part 50 of title 10 of the Code of Federal Regulations (10 CFR), “Domestic Licensing of Production and Utilization Facilities,” Facility Operating License No. DPR-40. If granted, the license amendment would update the dose calculations and FSS requirements for the Auxiliary Building basement and adjacent Containment Building for concrete structures deeper than 3 m (9.8 ft). As required by 10 CFR part 51, “Environmental Protection Regulations for Domestic Licensing and Related Regulatory Functions,” the NRC prepared an EA. Based on the results of the EA, the NRC has determined not to prepare an environmental impact statement (EIS) for the license amendment request and is issuing a FONSI.

The construction permit for FCS was issued by the NRC in 1968, with the operating license issued by the NRC to OPPD in 1973. The FCS began commercial operation in September 1973. OPPD submitted the Certification of Permanent Cessation of Power Operations in August 2016 in accordance with 10 CFR 50.82 (a)(1)(i) and shutdown FCS on October 24, 2016. Pursuant to 10 CFR 50.82(a)(1)(ii), on November 13, 2016, the OPPD certified to the NRC that as of November 2016, all fuel had been removed from the FCS reactor vessel and placed into the FCS spent fuel pool.

Pursuant to 10 CFR 50.82(a)(4)(i), the OPPD submitted its initial Post-Shutdown Decommissioning Activities Report (PSDAR) on March 30, 2017, and supplemented it by letter dated December 14, 2017. The PSDAR described OPPD's selection of the SAFSTOR method for decommissioning the FCS. The FCS reactor remained in SAFSTOR until December 16, 2019.

On December 16, 2019, as supplemented by letter dated July 16, 2020, the OPPD submitted a revised PSDAR to the NRC to reflect schedule changes and select a new method for decommissioning the FCS pursuant to 10 CFR 50.82(a)(7). The revised PSDAR described OPPD's selection of the DECON method for decommissioning the FCS.

By letter dated May 18, 2020, the OPPD certified to the NRC as of May 13, 2020, all spent fuel assemblies had been permanently transferred out of the FCS spent fuel pool and placed in storage within the independent spent fuel storage installation. The OPPD submitted the LTP on August 3, 2021, in accordance with 10 CFR 50.82(a)(9). The LTP was approved by the NRC on January 31, 2024.

On June 18, 2024, as supplemented by letters dated January 16, 2025, March 24, 2025, July 28, 2025, and July 31, 2025, the OPPD submitted an LTP license amendment for the FCS requesting a license amendment to edit dose modeling and final site survey methodologies for the Auxiliary Building basement and Containment Building.

II. Environmental Assessment

Description of the Proposed Action

The proposed action is the review and subsequent approval, if appropriate, of a license amendment to OPPD to approve the LTP, Revision 2 for the FCS. If approved, the amendment would update the dose calculations and FSS requirements for the Auxiliary Building for concrete structures deeper than 3 m (9.8 ft).

The proposed action is described in the OPPD's 2024 LTP application and responses to requests for additional information dated January 16, 2025, and July 28, 2025. On July 31, 2025, OPPD requested a revised scope of the review to include two areas of the Containment Building along with the initial request for the Auxiliary Building basement.

Purpose and Need for the Proposed Action

The purpose of and need for the proposed action is to allow for completion of decommissioning of the FCS site by the OPPD, termination of the FCS operating license by the NRC, and subsequent release of the FCS site for unrestricted use. The NRC regulation at 10 CFR 50.82 sets forth the process for the licensee to decommission its nuclear power plant, including submission of the LTP. The NRC will approve the LTP, provided that the LTP meets the criteria in 10 CFR 50.82(a)(10).

Environmental Impacts of the Proposed Action

The NRC staff considered the potential impacts of the proposed action on land use, historical and cultural resources; visual and scenic resources; meteorology, climatology, and air quality; noise; geology and soils; water resources; ecological resources; socioeconomics; public and occupation health; transportation and traffic; environmental justice; and waste management. The Decommissioning Generic Environmental Impact Statement (GEIS) (NUREG-0586) generically addressed many of the potential environmental impacts of decommissioning at the FCS. During its review of the FCS LTP, the NRC concluded that the impacts for most resource areas—onsite land use; water resources; air quality; ecology, not including threatened and endangered species; socioeconomics; historic and cultural resources within the operational area; aesthetics; noise; transportation; and nonradioactive waste management—were still bounded by the Decommissioning GEIS and 2023 EA for the LTP, Revision 1. Therefore, the NRC does not expect impacts associated with these resource areas beyond those discussed in the GEIS, which concluded that the impact level for these resource areas was SMALL, or the 2023 LTP EA, which concluded that the potential impacts for these resource areas were not significant.

In the Decommissioning GEIS, the NRC staff concluded that it could not determine the environmental impacts of decommissioning generically for five environmental resource areas (offsite land use, threatened and endangered species, aquatic ecology beyond the operational area, terrestrial ecology beyond the operational area, and historic and cultural resources beyond the operational area). The Decommissioning GEIS determined that for these five resource areas a site-specific analysis would be required.

In the 2023 FCS LTP EA, the NRC staff evaluated the potential environmental impacts on five site-specific environmental resource areas not evaluated in the Decommissioning GEIS and did not identify any significant impacts. For the proposed action there are no planned activities outside of the operational area, and the OPPD commits to using best management practices and obtaining all necessary licenses from Federal or State agencies to protect the surrounding lands. The proposed action would result in no significant change to the off-site impacts and there would be no significant cumulative effects when added to the past, present, or reasonably foreseeable future actions at the FCS site.

The proposed action includes the use of grout in excavated trenches in the Auxiliary Building and several subsurface structures in the Containment Building as well as alterations to the dose calculations and final site survey methodologies for these areas. The grout would prevent groundwater in-leakage through cracks in the concrete. All grouted areas are greater than 3 m (9.8 ft) below ground surface and would be backfilled with clean fill material following plans described in the approved LTP, Revision 1. The proposed action does not include any new ground disturbing activities, the use of any previously undisturbed land, or alterations to site surface waters or vegetated lands. The NRC staff conclude that the proposed action would not alter any potential impacts on land use or historical and cultural resources as considered in the 2023 FCS LTP EA, which concluded no significant impact for both resource areas.

The NRC staff reviewed the proposed changes to the final site survey methodologies and dose calculations and found no significant changes to the potential environmental impacts as considered in the decommissioning GEIS and 2023 FCS LTP EA. The revised dose calculations demonstrate that decommissioning and unrestricted release of the site would meet applicable NRC regulations in 10 CFR part 20. The grout in and overlapping the edges of the trenches and concrete structures deeper than 3 m (9.8 ft) below ground surface would limit radioisotope diffusional release into site groundwater. Therefore, the NRC staff conclude the proposed license amendment would result in no significant impacts to water resources or public and occupational health.

Environmental Impacts of the Alternatives to the Proposed Action

As an alternative to the proposed action, the NRC staff considered the “no-action” alternative. Under the no-action alternative, the NRC would not approve the LTP license amendment request because regulatory requirements have not been met. If the NRC was unable to approve the LTP, Revision 2 because the regulatory requirements were not met, the OPPD would need to take additional actions to prepare an LTP that meets the requirements in 10 CFR 50.82(a)(10) or continue decommissioning activities under the currently approved LTP, Revision 1. Under this scenario, until the OPPD resubmits the LTP, activities at FCS would likely continue and the environmental impacts would neither increase nor decrease as a result of the additional time required for the LTP resubmission.

Agencies and Persons Consulted

On August 15, 2025, the NRC staff provided a copy of the draft EA to the State of Nebraska Department of Health and Human Services and Nebraska Department of Water Energy, and the Environment for their review and comment. The Nebraska Department of Water, Energy, and the Environment responded by a letter dated September 22, 2025. The Department provided a list of potential state permits and requirements for the project and requested the applicant engage the Department if any new permits or alterations to current permits are required for the proposed action. The state requested clarification on the grouting used at the site. The NRC staff provided additional information on the grout source and method of placement to the state on November 24, 2025.

By letter dated August 7, 2025, the NRC staff provided a copy of the draft EA to the Nebraska Field Office of the Fish and Wildlife Services and requested conference concurrence for the NRC's determination of not likely to adversely affect for two proposed species, the monarch butterfly and Western regal fritillary. In a letter dated September 25, 2025, the U.S. Fish and Wildlife Service (FWS) concurred with the NRC's determination that the proposed action would not adversely affect listed species or critical habitat. Therefore, the NRC staff consider consultation under Section 7 of the Endangered Species Act has been completed.

The NRC staff determined the proposed action does not have the potential to cause effects to historic properties, assuming such properties were present. Therefore, pursuant to 36 CFR 800.3(a)(1), the NRC has no further National Historic Preservation Act Section 106 obligations. On August 18, 2025, the NRC staff provided courtesy notification and a copy of the draft EA to the Nebraska State Historic Preservation Officer. In a letter dated August 25, 2025, the Nebraska State Historical Society responded that the proposed undertaking is unlikely to affect any cultural resources and confirmed the NRC staff's no historic properties affected determination.

III. Finding of No Significant Impact

Based on its review of the license amendment request, in accordance with the requirements of 10 CFR part 51, the NRC staff has determined that issuing the requested amendment, if appropriate, of the OPPD's Facility Operating License No. DPR-40 license would not significantly affect the quality of human environment. No significant radiological or non-radiological impacts are expected from the proposed action. Therefore, the NRC staff has determined that pursuant to 10 CFR 51.31, “Determinations based on environmental assessment,” preparation of an EIS is not required for the proposed action, and pursuant to 10 CFR 51.32, “Finding of no significant impact,” a FONSI is appropriate. In accordance with 10 CFR 51.32(a)(4), this FONSI incorporates the EA set forth in this notice by reference.

IV. Availability of Documents

The documents identified in the following table are available to interested persons through ADAMS.

Document description | ADAMS accession No.
Omaha Public Power District Post-Shutdown Decommissioning Activities Reports and supplemental letters, dated March 30, 2017, December 14, 2017, December 16, 2019, and July 16, 2020 | ML17089A759, ML17348A623, ML19351E355, and ML20202A654.
Omaha Public Power District—Certification of Permanent Cessation of Power Operations, dated August 25, 2016 | ML16242A127.
Omaha Public Power District—Certification of Permanent Removal of Fuel from the Reactor Vessel, dated November 13, 2016 | ML16319A254.
Omaha Public Power District—Certification of Permanent Removal of all Spent Fuel Assemblies from the Spent Fuel Pool, dated May 18, 2020 | ML20139A138.
Ft. Calhoun Station Unit 1, License Amendment Request (LAR) 21-01, LIC 21-0005, dated August 3, 2021 | ML21271A178 (Package).
Omaha Public Power District—Response to Fort Calhoun Station, Unit No. 1—Requests for Additional Information dated June 15, 2022, and February 27, 2023 | ML22167A199 and ML23060A197.
Fort Calhoun Station, Unit 1—Safety Evaluation Report for approval of License Termination Plan, dated January 31, 2024 | ML24019A168.
Fort Calhoun Station, Unit 1—License Amendment Request (LAR) to Revise License Termination Plan (LTP), dated November 11, 2024 | ML24177A132.
Omaha Public Power District—Response to Fort Calhoun Station, Unit No. 1 Acceptance of Requested Licensing Action Re: License Amendment Request to Revise the License Termination Plan (L-2024-LLA-0095), dated January 16, 2025 | ML25016A212.
Omaha Public Power District—Response to Request for License Amendment to Revise License Termination Plan—Request for Additional Information, Environmental, dated March 24, 2025 | ML25083A220 (Package).
Fort Calhoun, Unit 1, Independent Spent Fuel Storage Installation—Response to Audit Report for Omaha Public Power District Request to Revise License Termination Plan Requirements and Request for Additional Information (EPID L-2024-LLA-0095), dated July 28, 2025 | ML25211A290.
Omaha Public Power District—Fort Calhoun Station, Unit 1, Supplement to the License Amendment Request (LAR) to Revise License Termination Plan (LTP), dated July 31, 2025 | ML25218A293.
Final Generic Environmental Impact Statement on Decommissioning of Nuclear Facilities (NUREG-0586, Supplement 1, Vol. 1), dated November 2002 | ML023470304.
Final Environmental Assessment for Fort Calhoun, Unit 1 License Amendment Request, dated December 8, 2025 | ML25220A249.
NRC to FWS, Request for Concurrence, dated August 7, 2025 | ML25206A090.
NRC Email to Nebraska State Historic Preservation Officer—Fort Calhoun Station License Amendment Request, dated August 18, 2025 | ML25267A098.
NRC letter to Nebraska Department of Health and Human Services and Nebraska Department of Water, Energy, and the Environment—Request for State Review of Environmental Assessment for Fort Calhoun License Amendment Request, dated August 15, 2025 | ML25267A099.
FWS Signed Fort Calhoun Concurrence Request, dated September 25, 2025 | ML25273A132.
Nebraska State Historic Preservation Officer—Response Letter Fort Calhoun License Termination Washington County NP, dated August 25, 2025 | ML25267A100.
Nebraska Department of Water, Energy and Environment—Comment Response on Fort Calhoun License Amendment Request Draft Environmental Assessment, dated September 22, 2025 | ML25267A097.
NRC Form 699—CONVERSATION RECORD—Email to Nebraska Department of Water, Energy, and the Environment Regarding Fort Calhoun Station, dated November 24, 2025 | ML25330A002.

Dated: December 10, 2025.
For the Nuclear Regulatory Commission.
Robert Sun,
Chief, Environmental Project Management, Branch 2, Division of Rulemaking, Environmental, and Financial Support, Office of Nuclear Material Safety, and Safeguards.

[FR Doc. 2025-22657 Filed 12-11-25; 8:45 am]

BILLING CODE 7590-01-P